DEPARTMENT OF THE INTERIOR

National Park Service

National Register of Historic Places; Notification of Pending Nominations and Related Actions

Nominations for the following properties being considered for listing or related actions in the National Register were received by the National Park Service before August 15, 2008. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by September 18, 2009.

J. Paul Loether,
Chief, National Register of Historic Places/National Historic Landmarks Program.

ALABAMA

Elmore County

Tallassee Mills, 1844 Old Mill Rd., Tallassee, 09000734

ARKANSAS

Crawford County

Old School Presbyterian Church, 421 Webster St., Van Buren, 09000740

Lonoke County

Carver Gymnasium, 400 Ferguson St., Lonoke, 09000741

Nevada County

Emmet Methodist Church, 209 S. Walnut, Emmet, 09000742

Poinsett County

Harrisburg Commercial Historic District, Roughly bounded by Jackson, Water, South & Gould Sts., Harrisburg, 09000736

Lepanto Commercial Historic District, Roughly bounded by Holmes St., Little R., Dewey St. & Alexander Ave., Lepanto, 09000743

Marked Tree Commercial Historic District, Elm St. between Liberty & Frisco Sts.; Frisco St. between Elm and Nathan Sts., Marked Tree, 09000735

Pope County

Atkins Commercial Historic District, Roughly bounded by Main, Church, & 1st Sts., Ave. 2., Atkins, 09000739

Prairie County

St. Elizabeth's Catholic Church, NE corner of Sycamore and Mason Sts., DeValls Bluff, 09000744

Pulaski County

Bailey, Carl, Company Building, 3100 E. Broadway, North Little Rock, 09000737

Sebastian County

Old US 71—Jenny Lind Segment, (Arkansas Highway History and Architecture MPS) Doraul Acres Ln. & part of Mt. Nebo Rd. W. of US 71., Jenny Lind, 09000738

Washington County

University of Arkansas Campus Historic District, Roughly bounded by Garland Ave., Maple St., Arkansas Ave. & Dickson St., Fayetteville, 09000745

FLORIDA

Orange County

Holden—Parramore Historic District, Bounded by W. Church St., S. Division Ave., Long St., McFall Ave., & S. Parramore Av., Orlando, 09000746

Pinellas County

Blatchley, Willis S., House, 232 Lee St., Dunedin, 09000747

GEORGIA

Clarke County

Milledge Avenue Historic District (Boundary Increase), 295 W. Rutherford St., Athens, 09000748

DeKalb County

Kirkwood Historic District, Roughly bounded by Memorial Dr., Montgomery St., Hosea Williams Dr., Rogers St., CSX RR., & city limits, Atlanta, 09000749

Elbert County

Building at 6 and 7 Public Square, 6 & 7 Public Sq., Bowman, 09000750

Murray County

Pleasant Valley Historic District, Roughly bounded by CSX RR., city limits, & land lot lines., Crandall, 09000751

Webster County

Boyd Mill Place, 580 Mill Pond Rd., Weston, 09000752

HAWAII

Honolulu County

Uluhaimalama, 352 Auwaiolimu St., Honolulu, 09000753

INDIANA

Boone County

Howard School, (Indiana's Public Common and High Schools MPS) 4555 E. Co. Rd. 750 S., Brownsburg, 09000754

Elkhart County

Bridge Street Bridge, Bridge St. aver St. Joseph R., Elkhart, 09000755

Grant County

Thompson—Ray House, 407 E. Main St., Gas City, 09000756

Kosciusko County

DIXIE (sternwheeler), 400 Blk. of S. Dixie Dr., North Webster, 09000757

La Porte County

Pinhook Methodist Church and Cemetery, 8001 IN 2, LaPorte, 09000759

Lake County

Morningside Historic District, (Historic Residential Suburbs in the United States, 1830-1960 MPS) Roughly bounded by E. side of Washington, W. side of Jefferson, 47th & 48th Sts., Gary, 09000758

Madison County

Thawley, Joseph & Lucinda, House, 300 E. North Main St., Summitville, 09000760

Orange County

Orleans Historic District, Roughly bounded by Wilson, Franklin, Harrison & 4th Sts., Orleans, 09000761

Ripley County

Ripley County Courthouse, 115 N. Main St., Versailles, 09000762

IOWA

Clayton County

Bloedel, Christian, Wagon Works, 524-526 Main St., McGregor, 09000765

Scott County

Linograph Company Building, The, 420 W. River Dr., Davenport, 09000764

MASSACHUSETTS

Middlesex County

Franklin School, 7 Stedman Rd., Lexington, 09000766

Suffolk County

Mount Hope Cemetery, 355 Walk Hill St., Boston, 09000767

MISSISSIPPI

Coahoma County

Clarksdale Historic District, Roughly bounded by the Sunflower R., 10th St., DeSoto Ave. & Clark St., Clarksdale, 09000763

OREGON

Clackamas County

Willamette Falls Neighborhood Historic District, Roughly bound by Knapps Alley, 12th St., 4th Ave., & 15th St., West Linn, 09000768

PUERTO RICO

Ponce Municipality

Casa Paoli, 14 Mayor St., Ponce, 09000769

[FR Doc. E9-21229 Filed 9-2-09; 8:45 am]

BILLING CODE P